FEDERAL COMMUNICATIONS COMMISSION

[DA 08-2817 and DA 09-15]

Consumer Advisory Committee

AGENCY: Federal Communications Commission

ACTION: Notice.

SUMMARY: The Commission announces the re-chartering and appointment of members to the Consumer Advisory Committee (“Committee”) of the Federal Communications Commission (“Commission”). The Commission further designates the Chairperson of the Committee, and announces the date and agenda of the Committee's first meeting in calendar year 2009.

DATES: The first meeting of the re-chartered Committee will take place on January 30, 2009, 9 a.m. to 4 p.m., at the Commission's Headquarters Building, Room TW-C305, 445 12th Street, SW., Washington, DC 20554.

ADDRESSES: Federal Communications Commission, 445 12th Street, NW., Washington, DC 20554.

FOR FURTHER INFORMATION CONTACT: Scott Marshall, Consumer & Governmental Affairs Bureau, (202) 418-2809 (voice), (202) 418-0179 (TTY), or e-mail scott.marshal@fcc.gov.

SUPPLEMENTARY INFORMATION: On December 30, 2008, the Commission released document DA 08-2817, which announced the re-chartering of its Consumer Advisory Committee, announced the appointment of twenty-eight (28) members to the Committee and designated the Committee's chairperson.

On January 9, 2009, the Commission released document DA 09-15, announced the agenda, date and time of the Committee's first meeting in calendar year 2009.

The Committee is organized under and will operate in accordance with the provisions of the Federal Advisory Committee Act, 5 U.S.C. App. 2 (1988). On November 17, 2008, the Committee was re-chartered for another two-year term.

The mission of the Committee is to make recommendations to the Commission regarding consumer issues within the jurisdiction of the Commission and to facilitate the participation of consumers (including people with disabilities and underserved populations, such as American Indians and persons living in rural areas) in proceedings before the Commission. Each meeting of the full Committee will be open to the public. A notice of each meeting will be published in the Federal Register at least fifteen (15) days in advance of the meeting. Records will be maintained of each meeting and made available for public inspection.

Functions

Digital Transition. The digital television transition will remain the principal focus of the Committee thru early 2009 as the Commission continues its efforts to assist consumers in understanding and preparing for the transition which, by law, must be completed by February 17, 2009.

Other Topics. In addition to digital television, other topics to be addressed by the Committee will include, but are not limited to, the following areas:

1. Consumer protection and education (e.g., cramming, slamming, consumer friendly billing, detariffing, bundling of services, Lifeline/Linkup programs, customer service, privacy, telemarketing abuses, and outreach to underserved populations, such as Native Americans and persons living in rural areas).

2. Access by people with disabilities (e.g., telecommunications relay services, video description, closed captioning, accessible billing and access to telecommunications products and services).

3. Impact upon consumers of new and emerging technologies (e.g., availability of broadband, digital television, cable, satellite, low power FM, and the convergence of these and emerging technologies).

Appointment of Chairman and Members

The Commission appointed twenty-eight (28) members to its Consumer Advisory Committee. Of this number, twelve (12) represent interests of consumers, minorities, and low income communities; five (5) represent disabilities communities; six (6) represent the interest of state, local, and Native American interests, and, five (5) represent industry interests. The Committee's slate is designed to be representative of the Commission's many constituencies, and the diversity selected will provide a balanced point of view as required by the Federal Advisory Committee Act. All appointments are effective immediately and shall terminate November 17, 2010 or when the Committee is terminated, whichever is earlier.

The roster as appointed by Chairman Kevin J. Martin is as follows:

Ms. Debra Berlyn, representing the Digital Television Transition Coalition is hereby appointed as chairperson of the Committee.

Other members by organization and primary representative name include:

1. AARP—Marti T. Doneghy.

2. Alaska State Department of Law—Lew Craig.

3. Alliance for Community Media—Gloria Tristani.

4. American Council of the Blind—Eric Bridges.

5. Appalachian Regional Commission—Harry L. Roesch.

6. Benton Foundation—Charles Benton.

7. Cablevision—Dodie Tschirch.

8. Call For Action—Shirley Rooker.

9. Communication Service for the Deaf—Karen Peltz Strauss.

10. Communications Workers of America—Jeffrey Rechenbach.

11. Consumer Action—Ken McEldowney.

12. Consumer Electronics Association—Jamie Hedlund.

13. Consumer Federation of America—Irene E. Leech.

14. Consumers Union—Gene Kimmelman.

15. Deaf and Hard of Hearing Consumer Advocacy Network—Claude Stout.

16. Digital Television Transition Coalition—Debra Berlyn, Chairperson.

17. Dishnetwork Corporation (formerly EchoStar Communications Corporation)—Lori Kalani.

18. Hawaii State Public Utilities Commission—John Cole.

19. Eastern Band of Cherokee Indians—Brandon Stephens.

20. Hearing Loss Association of America—Lise Hamlin.

21. League of United Latin American Citizens—Eduardo Pena, Jr.

22. National Association of Broadcasters—John L. Sander.

23. National Association of Regulatory Utility Commissioners—Nixyvette Santini.

24. National Association of State Utility Consumer Advocates—Brenda Pennington.

25. Northern VA Resource Center for Deaf and Hard of Hearing Persons—Cheryl Heppner.

26. Parents Television Council—Dan Isett.

27. Southern Growth Policies Board—Scott Doron.

28. Verizon Communications, Inc.—Richard T. Ellis.

Meeting Date and Agenda

At its January 30, 2009 meeting, the Committee will continue its consideration of digital television (DTV) transition issues. The Committee may also consider recommendations regarding broadband/universal service, closed captioning, relay services, as well as other consumer issues within the jurisdiction of the Commission. In addition, the Committee will consider administrative and procedural matters relating to its functions.

Meetings are open to the public and are broadcast on the Internet in Real Audio/Real Video format with captioning at http://www.fcc.gov/cgb/cac. Members of the public may address the Committee or may send written comments to: Scott Marshall, Designated Federal Officer of the Committee, at the address indicated on the first page of this document. The meeting site is accessible to people with disabilities. Meetings are sign language interpreted with real-time transcription and assistive listening devices available. Meeting agendas and handout materials are provided in accessible formats.

To request materials in accessible formats for people with disabilities (Braille, large print, electronic files, audio format), send an e-mail to fcc504@fcc.gov or call the Consumer & Governmental Affairs Bureau at 202-418-0530 (voice), 202-418-0432 (TTY).

Federal Communications Commission
Catherine W. Seidel,
Chief, Consumer & Governmental Affairs Bureau.

[FR Doc. E9-940 Filed 1-15-09; 8:45 am]

BILLING CODE 6712-01-P